DEPARTMENT OF HOMELAND SECURITY

Office of the Secretary

Committee Management: Update on Critical Infrastructure Partnership Advisory Council (CIPAC) Committee Membership

AGENCY: Preparedness Directorate, Office of Infrastructure Protection, DHS.

ACTION: Notice.

SUMMARY: The Department of Homeland Security announced the establishment of the Critical Infrastructure Partnership Advisory Council (CIPAC) by Notice published in the Federal Register on March 24, 2006 (“First CIPAC Notice;” 71 FR 14930). That Notice identified the purpose of the committee as well as its membership. This Notice provides the quarterly update including instructions on how the public can obtain the most current roster of CIPAC membership.

FOR FURTHER INFORMATION CONTACT: Brett Lambo, Infrastructure Programs Office, Infrastructure Partnerships Division, Office of Infrastructure Protection, Preparedness Directorate, United States Department of Homeland Security, Washington, DC 20528, telephone (703) 235-5311 or via e-mail at brett.lambo@dhs.gov.

Responsible DHS Official: Nancy J. Wong, Director, Infrastructure Programs Office, Infrastructure Partnerships Division, Office of Infrastructure Protection, Preparedness Directorate, United States Department of Homeland Security, Washington, DC 20528, telephone (703) 235-5349.

SUPPLEMENTARY INFORMATION: The CIPAC is intended to facilitate interaction between representatives of government and the community of critical infrastructure and key resources (CI/KR) owners and operators in each critical sector. As set forth in the CIPAC's originating documents, it engages in: “Planning; coordination; security program implementation; operational activities related to critical infrastructure protection security measures, including incident response, recovery, and reconstitution from events both man-made and naturally occurring; and the sharing of information about threats, vulnerabilities, protective measures, best practices, and lessons learned.”

CIPAC is designed to include as many of the owners and operators and the owner and operator representative trade associations deemed necessary by each sector's Sector Coordinating Council (SCC) as participants in these activities. CIPAC Membership is comprised of the CI/KR owner and operator entities (and the trade associations that represent CI/KR owners and operators) which the Department of Homeland Security (DHS) in conjunction with the Sector Specific Agency (SSA) (when different than DHS) recognizes as members of that sector's Sector Coordinating Council (SCC). It also includes Federal, State, local, and tribal government agencies (or their representative bodies) that comprise the membership of the Government Coordinating Council (GCC) for each sector as recognized by DHS in conjunction with the Sector Specific Agency (SSA).

Owners and operators or trade associations representing the interests of owners and operators that own and invest in infrastructure assets, in the systems and processes to secure them, and that are held responsible by the public for their operations and the response and their recovery when their infrastructures or key resources are disrupted.

This Notice serves as a quarterly notice to provide instructions for obtaining the most current roster of CIPAC membership. The most recent membership roster is published on the CIPAC Web site (http://www.dhs.gov/cipac). That CIPAC Web site maintains an updated list of all Sector industry/institutional CIPAC membership and all government entities involved in CIPAC. Any member of the public may visit the Web site to learn about CIPAC membership, list of meetings and agendas.

Dated: October 12, 2006.
Nancy J. Wong,
Director, Infrastructure Programs Office, Infrastructure Partnerships Division, United States Department of Homeland Security.

[FR Doc. E6-17764 Filed 10-23-06; 8:45 am]

BILLING CODE 4410-10-P